DEPARTMENT OF HEALTH AND HUMAN SERVICES

Administration for Children and Families

Submission for OMB Review; Home-Based Child Care Practices and Experiences Study (New Collection)

AGENCY: Office of Planning, Research, and Evaluation, Administration for Children and Families, U.S. Department of Health and Human Services.

ACTION: Request for public comments.

SUMMARY: The Administration for Children and Families (ACF) Office of Planning, Research, and Evaluation is proposing a new primary data collection to examine the experiences, strengths, resources, and strategies used by home-based child care providers to serve and support equitable outcomes for children and families. The Home-Based Child Care Practices and Experiences study will explore the experiences of a particular group of home-based child care providers who are legally exempt from state licensing or other state regulations that apply to non-custodial care of children in the provider's own home; these providers are commonly referred to as family, friend, and neighbor providers.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The study will use semi-ethnographic, open-ended methods (including semi-structured interviews, and photo and audio journals) to generate rich information about the experiences of study respondents. The study will be conducted in four sites across the United States and will involve one round of data collection. Data collection will be conducted virtually and is planned to occur over a 5-month period. The study results are intended to inform future research and federal programs by contributing rich data on the ways family, friend, and neighbor providers think about and enact quality for children and families. The study will address substantial gaps in the existing evidence around “why” and “how” family, friend, and neighbor providers care for and educate children, and it will provide the foundation for future research on home-based child care. Study findings can also inform efforts to better align quality improvement efforts with the aspects of quality that providers and families find the most important in these settings.

Respondents: Family, friend, and neighbor child care providers, family members of the children cared for by the providers, and community members who support the providers.

Annual Burden Estimates
Instrument | Number of respondents (total over request period) | Number of responses per respondent (total over request period) | Avg. burden per response (in hours) | Total/annual burden (in hours)
1. Provider screener | 120 | 1 | 0.33 | 40
2. Provider interview #1 | 60 | 1 | 1.5 | 90
3. Provider logistics call | 60 | 1 | 1 | 60
4. Provider photo journals | 60 | 8 | 0.10 | 48
5. Provider audio journals | 60 | 8 | 0.15 | 72
6. Provider interview #2 | 60 | 1 | 1.5 | 90
7. Family member interview | 120 | 1 | 1 | 120
8. Community member interview | 60 | 1 | 0.5 | 30
9. Provider feedback focus group | 20 | 1 | 1 | 20

Estimated Total Annual Burden Hours: 570.

Authority: 42 U.S.C. 9858.

Mary B. Jones,
ACF/OPRE Certifying Officer.

[FR Doc. 2023-10100 Filed 5-11-23; 8:45 am]

BILLING CODE 4184-23-P